DEPARTMENT OF AGRICULTURE

Grain Inspection, Packers and Stockyards Administration

7 CFR Part 810

Request for Public Comment on the United States Standards for Sorghum

AGENCY: Grain Inspection, Packers and Stockyards Administration, USDA.

ACTION: Advance notice of proposed rulemaking.

SUMMARY: The Grain Inspection, Packers and Stockyards Administration (GIPSA) is initiating a review of the United States Standards for Sorghum. GIPSA invites comments and suggested changes to these standards.

DATES: Comments must be received on or before February 17, 2004.

ADDRESSES: Written comments must be submitted to Tess Butler at GIPSA, USDA, STOP 3604, 1400 Independence Avenue, SW., Washington, DC 20250-3604; faxed to (202) 690-2755; or e-mailed to comments.gipsa@usda.gov. Please indicate your comment refers to United States Standards for Sorghum.

All comments received are available for public inspection at Room 1652, South Building, 1400 Independence Avenue, SW., Washington, DC, during regular business hours (7 CFR 1.27 (b)).

FOR FURTHER INFORMATION CONTACT: Marianne Plaus, telephone (202) 690-3460 at GIPSA, USDA, Room 2409 North/South Building, 1400 Independence Avenue, SW., Washington, DC 20250-3630; Fax Number (202) 720-1015.

SUPPLEMENTARY INFORMATION: On August 14, 1998, GIPSA published an Advance Notice of Proposed Rulemaking in the Federal Register (63 FR 43641) requesting views and comments on the sorghum standards. Based on comments received, GIPSA determined that the U.S. Standards for Sorghum were meeting the needs of producers, shippers, and others who handle and market sorghum and that no changes were needed at that time.

Recently, the National Grain Sorghum Producers (NGSP), an association representing U.S. grain sorghum farmers nationwide, has requested that GIPSA initiate a review of the sorghum standards. NGSP would welcome the opportunity to clarify several definitions in the current standards to more accurately reflect advancements in sorghum genetics and better reflect what is relevant to deriving value in the marketplace. GIPSA is seeking all comments that will assist the Agency in making the standards more relevant in the contemporary market. Accordingly, GIPSA is initiating a review of the United States Standards for Sorghum in Subpart I of 7 CFR part 810 at §§ 810.1401-810.1405.

During this review, GIPSA will assess the need for revisions on the various sections of the United States Standards for Sorghum, the potential for improvements, and language clarity.

GIPSA invites any comments and suggestions concerning these standards, and the benefits and costs of any changes including, but not limited to, those addressing sorghum classification, definitions, and grade limits.

Authority: Pub. L. 94-582, 90 Stat. 2867, as amended (7 U.S.C. 71, et seq.)

Donna Reifschneider,
Administrator, Grain Inspection, Packers and Stockyards Administration.

[FR Doc. 03-31092 Filed 12-16-03; 8:45 am]

BILLING CODE 3410-EN-P